DEPARTMENT OF COMMERCE

National Oceanic and Atmospheric Administration

50 CFR Part 635

RINs 0648-XG007, 0648-XF947

Atlantic Highly Migratory Species; Atlantic Bluefin Tuna Fisheries; Pelagic Longline Fishery Management and Shortfin Mako Shark Management Measures

AGENCY: National Marine Fisheries Service (NMFS), National Oceanic and Atmospheric Administration (NOAA), Commerce.

ACTION: Notice of rescheduled scoping meeting.

SUMMARY: On March 2, 2018, NMFS published a Notice of Intent with scoping meeting dates for upcoming rulemaking for pelagic longline bluefin tuna area-based and weak hook management. On March 5, 2018, NMFS published a Notice of Intent with scoping meeting dates for Amendment 11 to the 2006 Consolidated HMS FMP. In this notice, per a request from constituents in that area, NMFS reschedules the New Jersey meeting date and provides a new meeting location.

DATES: The scoping meeting will now be held on April 11, 2018, from 4 p.m. to 8 p.m..

ADDRESSES: The scoping meeting will now be held in Little Egg Harbor, NJ, at the Little Egg Harbor Branch Library, 290 Mathistown Road, Little Egg Harbor, NJ 08087.

FOR FURTHER INFORMATION CONTACT: Guý DuBeck or Craig Cockrell by phone: 301-427-8503, or Jennifer Cudney by phone: 727-824-5399.

SUPPLEMENTARY INFORMATION: Regulations implemented under the authority of the Atlantic Tunas Convention Act (ATCA; 16 U.S.C. 971 et seq.) and the Magnuson-Stevens Fishery Conservation and Management Act (Magnuson-Stevens Act; 16 U.S.C. 1801 et seq.) governing the harvest of HMS, including bluefin tuna and sharks, by persons and vessels subject to U.S. jurisdiction are found at 50 CFR 635.

On March 2, 2018, NMFS published a Notice of Intent (83 FR 8969) with scoping meeting dates for pelagic longline bluefin tuna area-based and weak hook management. The notice announced a public process for determining the scope of issues to be addressed and for identifying the significant issues relating to the management of Atlantic HMS, with a focus on area-based management measures and weak hook management measures that were implemented to reduce dead discards of bluefin tuna in the pelagic longline fishery. On March 5, 2018, NMFS published a Notice of Intent (83 FR 9255) with scoping meeting dates for Amendment 11 to the 2006 Consolidated HMS FMP. This notice announced consideration of potential new management measures for shortfin mako sharks that could be implemented through rulemaking to address overfishing and to implement, as necessary and appropriate, measures adopted by the International Commission for the Conservation of Atlantic Tunas (ICCAT) (ICCAT Recommendation 17-08) in response to the 2017 shortfin mako shark stock assessment.

Due to a request to reschedule the meeting due to a conflict with another meeting for local constituents, NMFS is canceling the original scoping meeting that had been scheduled for April 12, 2018 in Manahawkin, NJ and changing it to another date and location. The scoping meeting in New Jersey is now scheduled for April 11, 2018, in Little Egg Harbor, NJ (see ADDRESSES and DATES).

Because the rulemakings overlap for some gear types, the public scoping meeting being held in Little Egg Harbor, NJ will address the issues from the scoping documents for both the pelagic longline bluefin tuna area-based and weak hook management and Amendment 11 to the 2006 Consolidated HMS FMP. The shortfin mako shark management measure presentation will likely be given first unless polling of the audience indicates another approach is appropriate. After each presentation, public comment for that issue will be received. Meeting attendees interested in this issue are encouraged to show up at the beginning of the meeting to help determine the order of the presentations. The second presentation will not start any later than 6 p.m.

The public is reminded that NMFS expects participants at the public hearings to conduct themselves appropriately. At the beginning of each public hearing, a representative of NMFS will explain the ground rules (e.g., alcohol is prohibited from the hearing room; attendees will be called to give their comments in the order in which they registered to speak; each attendee will have an equal amount of time to speak; and attendees should not interrupt one another). The NMFS representative will attempt to structure the meeting so that all attending members of the public will be able to comment, if they so choose, regardless of the controversial nature of the subject(s). Attendees are expected to respect the ground rules, and, if they do not, they may be asked to leave the hearing.

Authority: 16 U.S.C. 971 et seq; 16 U.S.C. 1801 et seq.

Dated: March 16, 2018.
Emily H. Menashes,
Acting Director, Office of Sustainable Fisheries, National Marine Fisheries Service.

[FR Doc. 2018-05702 Filed 3-20-18; 8:45 am]

BILLING CODE 3510-22-P